DEPARTMENT OF HEALTH AND HUMAN SERVICES

Centers for Disease Control and Prevention

CDC/HRSA Advisory Committee on HIV and STD Prevention and Treatment (CHACHSPT)

In accordance with section 10(a)(2) of the Federal Advisory Committee Act (Pub. L. 92-463), the Centers for Disease Control and Prevention (CDC) and the Health Resources and Services Administration (HRSA) announce the following committee meeting.

Name: CDC/HRSA Advisory Committee on HIV and STD Prevention and Treatment.

Times and Dates: 8 a.m.-5 p.m., November 13, 2006. 8 a.m.-12:15 p.m., November 14, 2006.

Place: Hotel Washington, 15th Street and Pennsylvania Avenue, NW., Washington, DC 20004, Telephone: 202-638-5900 or Fax 202-638-1594.

Status: Open to the public, limited only by the space available. The meeting room will accommodate approximately 100 people.

Purpose: This Committee is charged with advising the Secretary, the Director, CDC and the Administrator, HRSA, regarding activities related to prevention and control of HIV/AIDS and other STDs, the support of health care services to persons living with HIV/AIDS, and education of health professionals and the public about HIV/AIDS and other STDs.

Matters To Be Discussed: Agenda items include issues pertaining to (1) HIV issues related to stigma, racism and discrimination and (2) Comprehensive adolescent sexual health and other HIV related issues. Agenda items are subject to change as priorities dictate.

For Further Information Contact: Margie Scott-Cseh, Committee Management Specialist, National Center for HIV, STD, and TB Prevention, 1600 Clifton Road, NE., Mailstop E-07, Atlanta, Georgia 30333. Telephone: 404-639-8317, or Fax 404-639-3125, e-mail zkr7@cdc.gov.

The Director, Management Analysis and Services Office, has been delegated the authority to sign Federal Register notices pertaining to announcements of meetings and other committee management activities, for both CDC and the Agency for Toxic Substances and Disease Registry.

Dated: October 4, 2006.
Alvin Hall,
Director, Management Analysis and Services Office, Centers for Disease Control and Prevention.

[FR Doc. E6-16739 Filed 10-10-06; 8:45 am]

BILLING CODE 4163-18-P